DEPARTMENT OF VETERANS AFFAIRS

Privacy Act of 1974; Deletion of System of Records

AGENCY: Department of Veterans Affairs.

ACTION: Notice.

Notice is hereby given that the Department of Veterans Affairs (VA) is deleting a system of records entitled “PROS/KEYS User Permissions Database-VA” (67VA30), which was first published FR Vol. 52, No 155 dated August 12, 1987. The system of records known as “PROS/KEYS User Permissions Database-VA” is obsolete. The information was initially developed as a means to grant individuals access permissions to the resources of the Austin Data Processing Center. The requirement for VA to maintain this system of records no longer exists because the PROS/KEYS Database was replaced by 87VA045, “Automated Customer Registration System (ACRS)-VA”, which was published in FR Vol. 60, No 239 dated December 13, 1995. 87VA045 was subsequently amended, renamed, renumbered and republished in its entirety as 87VA0050P, “Customer User Provisioning System (CUPS)-VA”, in FR Vol. 74, No 156 dated August 14, 2009.

A “Report of Intention to Publish a Federal Register Notice of Deletion of a System of Records” and an advance copy of the system notice have been provided to the appropriate congressional committees and to the Director, Office of Management and Budget (OMB), as required by 5 U.S.C. 552a(r) and guidelines issued by OMB (65 CFR 77677), dated December 12, 2000. This system deletion is effective April 7, 2011.

Approved: March 18, 2011.
John R. Gingrich,
Chief of Staff, Department of Veterans Affairs.

[FR Doc. 2011-8280 Filed 4-6-11; 8:45 am]

BILLING CODE P